DEPARTMENT OF HOUSING AND URBAN DEVELOPMENT

[Docket No. FR-5681-N-37]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202) 720-8873; ARMY: Ms. Veronica Rines, Office of the Assistant Chief of Staff for Installation Management, Department of Army, Room 5A128, 600 Army Pentagon, Washington, DC 20310, (571) 256-8145; COAST GUARD: Commandant, United States Coast Guard, Attn: Jennifer Stomber, 2100 Second St. SW., Stop 7901, Washington, DC 20593-0001; (202) 475-5609; GSA: Mr. Flavio Peres, General Services Administration, Office of Real Property Utilization and Disposal, 1800 F Street NW., Room 7040, Washington, DC 20405, (202) 501-0084; INTERIOR: Mr. Michael Wright, Acquisition & Property Management, Department of the Interior, MS-4262, 1849 C Street, Washington, DC 20240, (202) 513-0795; NAVY: Mr. Steve Matteo, Department of the Navy, Asset Management Division, Naval Facilities Engineering Command, Washington Navy Yard, 1330 Patterson Ave. SW., Suite 1000, Washington, DC 20374; (202) 685-9426; (These are not toll-free numbers).

Dated: September 5, 2013.
Mark Johnston,
Deputy Assistant Secretary for Special Needs.

TITLE V, FEDERAL SURPLUS PROPERTY PROGRAM FEDERAL REGISTER REPORT FOR 09/13/2013

Suitable/Available Properties

Building

Alaska

Commercial Lot w/2 Story Structure

412 Washington Ave.

Seward AK 99664

Landholding Agency: GSA

Property Number: 54201320010

Status: Surplus

GSA Number: 9-I-AK-0803AB

Directions: GSA is the disposal agency; NPD/DOII is the landholding agency

Comments: 3,538 sf.; restaurant

Multi-Family Lot

212 Fifth Ave.

Seward AK 99664

Landholding Agency: GSA

Property Number: 54201320014

Status: Surplus

GSA Number: 9-I-AK-0805AB

Directions: Disposal agency: GSA; Landholding agency: NPS/DOII

Comments: 1,070 sf.; residential; fair conditions; mold, asbestos, & lead

Arizona

Caretaker's Residence

County 11th and Levee Rd.

Yuma AZ

Landholding Agency: Interior

Property Number: 61201330047

Status: Unutilized

Comments: off-site removal only; 1,683 sf. no future agency need; residential; deteriorated; presence of pest infestation; fixtures/electrical stripped out; major renovations needed; contact Interior for more info.

California

4 Buildings

Sierra Army Depot

Herlong CA 96113

Landholding Agency: Army

Property Number: 21201330067

Status: Unutilized

Directions: 00478, 00548, 00681, 00685

Comments: Sf. varies 36-204 + months vacant; fair to deteriorate; secured area; extensive background check required; contact Army for info. on a specific property & accessibility reqs.

Georgia

Equipment Stg. Chicken House

15604, Site 00 (934 College Station Rd.

Athens GA 30605

Landholding Agency: Agriculture

Property Number: 15201330029

Status: Excess

Comments: Off-site removal; 1,200 sf.; storage; 15+ months vacant; termite damage; contact Agric. for accessibility removal reqs.

Hawaii

Bldg. 133 & Antenna Tower 133A

Kamehaine Dr., Waimanalo Ridge

Hawaii Kai HI 96825

Landholding Agency: GSA

Property Number: 54201320012

Status: Surplus

GSA Number: 9-N-HI-811

Directions: Disposal agency: GSA; Landholding agency: Navy

Comments: off-site removal only; 735 sf. for bldg. 133; poor conditions; contamination present; located w/in secured area; contact GSA for more info.

Illinois

Building 89A-H

Recreation Pavilion

Great Lakes IL 60088

Landholding Agency: Navy

Property Number: 77201330026

Status: Unutilized

Comments: off-site removal; relocation may be difficult; no future agency need; 924 sf.; vacant since Sept. 2011; minor repairs needed; secured area; contact Navy for more info.

Building 89H

Public Toilet

Near intersection Fourth St. & G St.

Great Lakes IL

Landholding Agency: Navy

Property Number: 77201330028

Status: Unutilized

Comments: 210 sf.; public restroom/shower; major repairs needed; vacant since Sept. 2011; secured area; prior approval to access property; contact Navy for more info.

Indiana

Tract 53-133, Hoffman House Pr

275 W. Carol Lane

Beverly Shores IN 46301

Landholding Agency: Interior

Property Number: 61201330039

Status: Excess

Comments: Off-site removal; removal may be difficult due to structure type & condition; 1,503 sf., residential; 50 yrs.-old; repairs needed contact Interior for more info.

Tract 32-138, Dune Forest Dorm

108 Dune Forest Dorm

Chesterton IN 46304

Landholding Agency: Interior

Property Number: 61201330045

Status: Excess

Comments: Off-site removal; may be diff. due to unsound structure, 1,400 sf.; resid.; 28+ months vacant; significant structural damage; termite infest.; asbestos; mold & lead; contact Interior for more info.

Tract 103-162, Eggbeer Property

3031 Dabbert Avenue

Porter IN 46304

Landholding Agency: Interior

Property Number: 61201330046

Status: Excess

Comments: Off-site removal; may be diff. due to unsound stru.; 1,600 sf.; 24+ mos. vacant. resi.; extensive damage; asbestos; contact Interior for more info.

Iowa

Y11Q0

Camp Dodge

Johnston IA 50131

Landholding Agency: Army

Property Number: 21201330060

Status: Unutilized

Comments: 3,076 sf.; family housing; 816+months vacant; deteriorated; secured area; escort required; contact Army for accessibility requirements.

Y10Q0

Camp Dodge

Johnston IA 50131

Landholding Agency: Army

Property Number: 21201330061

Status: Unutilized

Comments: 3,076 sf.; family housing; 816+months vacant; deteriorated; secured area; escort required; contact Army for info.; accessibility requirements.

2 Buildings

Camp Dodge

Johnston IA 50131

Landholding Agency: Army

Property Number: 21201330064

Status: Unutilized

Directions: Y1200 & TC030

Comments: 1,686 & 1,026 sf. respectively; garage; deteriorated; secured area; escort required; contact Army for accessibility requirements.

Maryland

Building 930

4323 Dry House Road

Indian Head MD 20640

Landholding Agency: Navy

Property Number: 77201330019

Status: Excess

Directions: 930

Comments: Off-site removal only; 480 sf., 20+yrs vacant; chemical plant; contaminated; major renovations required for other use; secured area; contact Navy for accessibility removal reqs.

Building 930

4323 Dry House Rd.

Indian Head MD 20640

Landholding Agency: Navy

Property Number: 77201330020

Status: Excess

Directions: 930

Comments: Off-site removal only; 480 sf., 20+yrs vacant; chemical plant; contaminated; major renovations required for other use; secured area; contact Navy for accessibility removal reqs.

Building 931

4325 Dry House Road

Indian Head MD 20640

Landholding Agency: Navy

Property Number: 77201330021

Status: Excess

Directions: 931

Comments: Off-site removal only; 480 sf., chemical plant; 20+yrs. vacant; contaminated; major renovations needed for other use; secured aria contact Navy for accessibility/removal reqs.

Building 932

4327 Dry House Road

Indian Head MD 20640

Landholding Agency: Navy

Property Number: 77201330022

Status: Excess

Directions: 932

Comments: Off-site removal only; 480 sf.; chemical plant contaminated; major renovations required for other use; secured area; contact Navy for more info. on accessibility/removal reqs.

Building 933

4329 Dry House Road

Indian Head MD 20640

Landholding Agency: Navy

Property Number: 77201330023

Status: Excess

Directions: 933

Comments: Off-site removal only; 480 sf.; chemical plant 20+yrs. vacant; contaminated; major renovations required for other use; contact Navy for accessibility removal reqs.

Nevada

25 Buildings

Hawthorne Army Depot

Hawthorne NV 89415

Landholding Agency: Army

Property Number: 21201330062

Status: Unutilized

Directions: 400,401,402,403,404,405,406,407,408,409,410,411,412,413,414,415,416,417,418,419,420,421,422,423,424

Comments: Off-site removal only; no future agency use; prior authorization; secured area; contact Army on a specific property & accessibility removal reqs.

00A99

Hawthorne Army Depot

Hawthorne NV 89415

Landholding Agency: Army

Property Number: 21201330063

Status: Excess

Comments: 700 sf.; storage; 42 yrs. old; structural damage; asbestos & lead; prior authorization required; contact Army for info. on accessibility & removal reqs.

00A99

Hawthorne Army Depot

Hawthorne Army Depot NV 89415

Landholding Agency: Army

Property Number: 21201330065

Status: Excess

Comments: 700 sf.; storage; 42 yrs. old; structural damage; asbestos & lead; prior authorization required; contact Army for info. on accessibility & removal reqs.

7 Building

Hawthorne Army Depot

Hawthorne NV 89415

Landholding Agency: Army

Property Number: 21201330068

Status: Unutilized

Directions: 00A18,00A25,00A42,0A368,0A671,86BT4,00375

Comments: Sf. varies; asbestos & lead; secured area; prior authorization required; contact Army for more info. on a specific property listed and accessibility requirements.

New Jersey

Portion of Former Sievers-Sandberg US Army Reserves Center—Tract 1

NW Side of Artillery Ave. at Rte. 130

Oldmans NJ 08067

Landholding Agency: GSA

Property Number: 54201320015

Status: Surplus

GSA Number: 1-D-NJ-0662-AA

Directions: Previously reported under 54200740005 as suitable/available ; 16 bldgs. usage varies: barracks/med./warehouses/garages; property is being parceled.

Comments: 87,011 sf.; 10+ yrs. vacant fair/poor conditions; property may be landlocked; transferee may need to request access from Oldmans Township planning & zoning comm.; contact GSA for more info.

New York

Building 240

Hill Rd, AFRL Rome Research Site

Rom NY 13441

Landholding Agency: GSA

Property Number: 54201320007

Status: Excess

GSA Number: ny0938

Comments: 134,855sf; military office & lab bldg.; 10 plus years vacant; significant deterioration; asbestos; access must be coordinated w/local airforce personnel.

North Carolina

Building D1209

4285 Gruber Road

Ft. Bragg NC 28308

Landholding Agency: Army

Property Number: 21201330069

Status: Unutilized

Comments: 15,327 sf; 21 yrs. old; extensive repairs needed; secured area; extensive background check required; contact Army for accessibility requirements.

North Carolina

D3909

3912 Donovan Street

Ft. Bragg NC 28308

Landholding Agency: Army

Property Number: 21201330070

Status: Unutilized

Comments: 13,247 sf.; 42 yrs. old; dining facility; extensive repairs; extensive background check; secured area; contact Army for accessibility requirements.

North Dakota

Pactola Work Center, Dwelling

13950 HWY 44

Rapid City ND 57709

Landholding Agency: Agriculture

Property Number: 15201330028

Status: Excess

Comments: Off-site removal only; 680 sf., 120+ months vacant; seasonal residence; deteriorated; rodent infestation contact Agric. for more info.

South Dakota

Pactola Work, Dwelling 2 (3537

13950 Hwy 44

Rapid City SD 57709

Landholding Agency: Agriculture

Property Number: 15201330030

Status: Excess

Comments: Off-site removal only; 670 sf.; 120+months vacant; seasonal residence; deteriorated; rodent infestation; holes in walls; contact Agric. for more info.

Pactola Work Center Dwelling 3

13950 Hwy 44

Rapid City SD 57709

Landholding Agency: Agriculture

Property Number: 15201330031

Status: Excess

Comments: Off-site removal only; 480 sf.; seasonal residence; rodent infestation; holes in walls; contact Agric. for more info.

Horse Shed

23923 Hwy, 385

Hill City SD 57745

Landholding Agency: Agriculture

Property Number: 15201330032

Status: Excess

Comments: Off-site removal only; 300 sf.; 126+months vacant; poor conditions; contact Agric. for more info.

Texas

Building 40072

Metorpool Rd.

Fort Hood TX 76544

Landholding Agency: Army

Property Number: 21201330057

Status: Excess

Comments: Off-site removal; 1,943 sf., health clinic; asbestos; 12+ months vacant; fair/moderate conditions; restricted area; contact Army for accessibility/removal reqs.

Dallas Social Security

Admin. Bldg.

Dallas TX 75201

Landholding Agency: GSA

Property Number: 54201330008

Status: Excess

GSA Number: 7-G-TX-1149

Comments: 11,282 sf.; office; 1+ month vacant; roof need repairs; property on 1.1 acres

Virginia

6 Building

2100 Rowell Rd.

Marine Corps Base VA 22134

Landholding Agency: Navy

Property Number: 77201330017

Status: Excess

Directions: 2102,2102A,2103,5112,5113,5114

Comments: Off-site removal only; 81,185 total sf., deteriorated conditions; asbestos; secured area; contact Navy for info. On accessibility/removal reqs.

6 Building

2100 Rowell Rd

Marine Corps Base VA 22134

Landholding Agency: Navy

Property Number: 77201330018

Status: Excess

Directions: 2102,2102A,2103,5112,5113,5114

Comments: Off-site removal only; 81,185 total sf., deteriorated conditions; asbestos; secured area; contact Navy for info. On accessibility/removal reqs.

2 Buildings

Marine Corps Base

Quantico VA 22134

Landholding Agency: Navy

Property Number: 77201330024

Status: Excess

Directions: 2201, 2205

Comments: off-site removal only; sf. varies; deteriorated; contact Navy for more information on a specific property and removal requirements

Wisconsin

Tract 07-149, Hanus House

14788 W. Phipps Road

Hayward WI 54843

Landholding Agency: Interior

Property Number: 61201330040

Status: Excess

Comments: Off-site removal; 18,576 total sf.; log cabin (w/detached garage); fair conditions; contact Interior for more into.

Tract 13-177, Ogren House

10035 Ogren Road

Hayward WI 54843

Landholding Agency: Interior

Property Number: 61201330041

Status: Excess

Comments: Off-site removal; 1,500 sf.; residential (w/garage); 12+ months vacant; fair condition; contact Interior for more info.

Tract 04-117

42485 Randysek Road

Cable WI 54821

Landholding Agency: Interior

Property Number: 61201330044

Status: Excess

Comments: Off-site removal only; 1,408 sf.; log cabin; 36+ months vacant; fair conditions; contact Interior for more info.

Land

Florida

RCLT Transmitter Site

7439 SW 39th St.

Davie FL

Landholding Agency: GSA

Property Number: 54201320009

Status: Surplus

GSA Number: 4-U-FL-1258AA

Directions: Note: landholding agency is FAA; disposal agency is GSA

Comments: 1.75 acres; equipment storage; contact GSA for more information

Suitable/Unavailable Properties

Land

California

Drill Site #26

null

Ford City CA 93268

Landholding Agency: GSA

Property Number: 54201040011

Status: Surplus

GSA Number: 9-B-CA-1673-AA

Comments: 2.07 acres, mineral rights, utility easements

Georgia

5 Acres

Former CB7 Radio Communication

Townsend GA 31331

Landholding Agency: GSA

Property Number: 54201210008

Status: Excess

GSA Number: 4-U-GA-885AA

Comments: 5.0 acres; current use: unknown; property located in 100 yr. floodplain-not in floodway and no impacting using property; contact GSA for more details

Iowa

NRCS-USDA Unit

1820 E. Euclid Ave.

Des Moines IA 50313

Landholding Agency: GSA

Property Number: 54201240004

Status: Excess

GSA Number: 7-A-IA-0511-AA

Directions: includes 2 Bldgs.; masonry 2,048 sf. +/-, frame 5,513 sf. +/-

Comments: bldgs. sits on .83 acres; fair conditions; equipment & material storage; driveway access easement w/adjacent property owner

Maine

Columbia Falls Radar Site

Tibbetstown Road

Columbia Falls ME 04623

Landholding Agency: GSA

Property Number: 54201140001

Status: Excess

GSA Number: 1-D-ME-0687

Directions: Buildings 1,2,3, and 4

Comments: Four bldgs. totaling 20,375 sq.ft.; each one-story; current use: varies among properties

Maryland

Appraisers Store

null

Baltimore MD 21202

Landholding Agency: GSA

Property Number: 54201030016

Status: Excess

GSA Number: 4-G-MD-0623

Comments: Redetermination: 169,801 sq. ft., most recent use—federal offices, listed in the Nat'l Register of Historic Places, use restrictions

Consumer Products Safety Commi

10901 Darenestown Rd.

Gaithersburg MD 20878

Landholding Agency: GSA

Property Number: 54201220004

Status: Surplus

GSA Number: NCR-G-MR-1107-01

Directions: property includes building and land

Comments: 37,543 sf.; office/warehouse space; secured area; however, will not interfere w/conveyance; contact GSA for further details

3 Buildings

US Naval Academy Gulf Club

Annapolis MD 21402

Landholding Agency: Navy

Property Number: 77201330027

Status: Underutilized

Directions: NA642, NA656, NA687

Comments: sf. varies; 5-29 yrs.-old; fair conditions; existing agency need; not available

Nat'l Weather Svc Ofc

214 West 14th Ave.

Sault Ste. Marie MI

Landholding Agency: GSA

Property Number: 54200120010

Status: Excess

GSA Number: 1-C-MI-802

Comments: previously unavailable; however, the property is 'available' as a facility to assist the homeless; 2230 sq. ft., presence of asbestos, most recent use—office

Minnesota

Noyes Land Port of Entry

SW Side of US Rte. 75

Noyes MN 56740

Landholding Agency: GSA

Property Number: 54201230007

Status: Excess

GSA Number: 1-G-MN-0593

Directions: one main bldg.; one storage; approx. 16,000 and 900 sf. respectively

Comments: sits on 2.29 acres; approx. 17,000 sf. total of bldg. space; office/governmental

Missouri

Nat'l Personnel Records Center

111 Winnebago

St. Louis MO 63118

Landholding Agency: GSA

Property Number: 54201220009

Status: Excess

GSA Number: 7-G-MO-0684

Comments: 440,000 +/- sf.; two floors; storage; asbestos, lead, & high level of radon; needs remediation

Montana

James F. Battin & Courthouse

316 North 26th Street

Billings MT 59101

Landholding Agency: GSA

Property Number: 54201210005

Status: Excess

GSA Number: 7-G-MT-0621-AB

Comments: 116,865 sf.; current use: office; extensive asbestos contamination; needs remediation

Nebraska

Former Omaha Qtrs. Depot

2101 Woolworth Ave.

Omaha NE 68108

Landholding Agency: GSA

Property Number: 54201310005

Status: Surplus

GSA Number: 7-D-NE-0530

Directions: office #1: 14,520 sf.; office #2: 38,870 sf.; office #3: 11,000 sf.; office #4: 986 sf.; storage: 7,488 sf.; office #5: 12,250 sf.; office #6: 3,720 sf.; Two Gatehouses: 507 sf. each

Comments: 9 Bldgs. sits on 7.25 acres; Admin/Office; 12 mons. vacant; to access coordinate w/88th Army Reserve Command out of Ft. McCoy, WI

Nevada

Alan Bible Federal Bldg.

600 S. Las Vegas Blvd.

Las Vegas NV 89101

Landholding Agency: GSA

Property Number: 54201210009

Status: Excess

GSA Number: 9-G-NV-565

Comments: 81,247 sf.; current use: federal bldg.; extensive structural issues; needs major repairs; contact GSA for further details

2 Buildings

Military Circle

Tonopah NV

Landholding Agency: GSA

Property Number: 54201240012

Status: Surplus

GSA Number: 9-I-NV-514-AK

Directions: bldg. 102: 2,508 sf.; bldg. 103: 2,880 sf.

Comments: total sf. for both bldgs. 5,388; Admin.;vacant since 1998; sits on 0.747 acres; fair conditions; lead/asbestos present

New Jersey

Former SSA Trust Fund Bldg.

396 Bloomfield Ave.

Montclair NJ 07042

Landholding Agency: GSA

Property Number: 54201310004

Status: Surplus

GSA Number: 1-G-NJ-0676

Comments: 7,183 sf.; office; vacant since March 2012

New York

Building 606

1 Amsterdam Rd.

Scotia NY 12301

Landholding Agency: GSA

Property Number: 54201310009

Status: Surplus

GSA Number: NY-0975

Directions: previously reported by Navy w/assigned property number 7720120019

Comments: 137,409 sf.; Navy Exchange, supermarket, & storage; 24 mons. vacant; mold, asbestos, & lead-based paint, significant renovations needed

Portion of GSA Binghamton

“Hillcrest” Depot—Tract 2

1151 Hoyt Avenue

Fenton NY 13901

Landholding Agency: GSA

Property Number: 54201320008

Status: Surplus

GSA Number: 1-G-NY0670-AD

Directions: Previously report on march 24, 2006 under 5420010016; include 40 acres of land w/5 buildings.

Comments: warehouses: ranges 129,000-200,249 total sf; old admin. bldg.: 42,890 sf; pump house: 166.5 sf; fair to very poor conditions; contact GSA for more info.

Portion of GSA Binghamton

“Hillcrest” Depot—Tract 1

1151 Hoyt Ave.

Fenton NY 13901

Landholding Agency: GSA

Property Number: 54201320017

Status: Surplus

GSA Number: 1-G-NY0670-AC

Directions: Previously reported on March 24, 2006 under 54200610016; this property includes 40 acres of land w/6 structures; property is being parceled

Comments: warehouses range from approx. 16,347 sf.-172,830 sf.; admin. bldg. approx. 5,700 sf; guard house & butler bldg. sf. is unknown; 10 vacant; fair conditions; bldgs. locked; entry by appt. w/GSA

North Carolina

Greenville Site

10000 Cherry Run Rd.

Greenville NC 27834

Landholding Agency: GSA

Property Number: 54201210002

Status: Surplus

GSA Number: 4-2-NC-0753

Comments: 49,300 sq. ft.; current use: transmitter bldg.; possible PCB contamination; not available—existing Federal need

Ohio

Oxford USAR Facility

6557 Todd Road

Oxford OH 45056

Landholding Agency: GSA

Property Number: 54201010007

Status: Excess

GSA Number: 1-D-OH-833

Comments: office bldg./mess hall/barracks/simulator bldg./small support bldgs., structures range from good to needing major rehab

Ohio

LTC Dwite Schaffner

U. S. Army Reserve Center

1011 Gorge Blvd.

Akron OH 44310

Landholding Agency: GSA

Property Number: 54201120006

Status: Excess

GSA Number: 1-D-OH-836

Comments:

25,039 sq. ft., most recent use: Office; in good condition

Oregon

3 Bldgs./Land

OTHR-B Radar

Cty Rd 514

Christmas Valley OR 97641

Landholding Agency: GSA

Property Number: 54200840003

Status: Excess

GSA Number: 9-D-OR-0768

Comments: 14000 sq. ft. each/2626 acres, most recent use—radar site, right-of-way

Pennsylvania

Old Marienville Compound

110 South Forest St.

Marienville PA 16239

Landholding Agency: GSA

Property Number: 54201230001

Status: Excess

GSA Number: 4-A-PA-808AD

Directions: 10 bldgs.; wood farm duplex; office/garage; pole bard; shop; (2) wood sheds; block shed; trailer; carport; toilet bldg.

Comments: sq. ft. for ea. bldg. on property varies; contact GSA for specific sq. ft.; Forest Service Admin. complex; mold and lead identified; historic property

South Carolina

Former US Vegetable Lab

2875 Savannah Hwy

Charleston SC 29414

Landholding Agency: GSA

Property Number: 54201310001

Status: Excess

GSA Number: 4-A-SC-0609AA

Directions: headhouse w/3 greenhouses, storage bins

Comments: 6,400 sf.; lab; 11 yrs. vacant; w/in 100 yr. floodplain/floodway; however is contained; asbestos & lead based paint

Texas

Former Navy & Marine Corps Res

5301 Ave. South

Galveston TX 77551

Landholding Agency: GSA

Property Number: 54201240013

Status: Surplus

GSA Number: 7-D-TX-0549-9

Comments: 17,319 sf.; sits on 2.63 acres; Admin. office; fair conditions; eligible for Nat'l Register Historic Places; asbestos; access by appt. w/USACE

Washington

Log House

281 Fish Hatchery Rd.

Quilcene WA 98376

Landholding Agency: GSA

Property Number: 54201220006

Status: Excess

GSA Number: 9-I-WA-1260

Comments: off-site removal only; 3,385 sf.; residential/office

Wisconsin

Wausau Army Reserve Ctr.

1300 Sherman St.

Wausau WI 54401

Landholding Agency: GSA

Property Number: 54201210004

Status: Excess

GSA Number: 1-D-WI-610

Comments: bldg. 12,680 sq. ft.; garage 2,676 sq. ft.; current use: vacant; possible asbestos; remediation may be required; subjected to existing easements; Contact GSA for more detail

Land

California

Drill Site #3A

null

Ford City CA 93268

Landholding Agency: GSA

Property Number: 54201040004

Status: Surplus

GSA Number: 9-B-CA-1673-AG

Comments: 2.07 acres, mineral rights, utility easements

California

Drill Site #4

null

Ford City CA 93268

Landholding Agency: GSA

Property Number: 54201040005

Status: Surplus

GSA Number: 9-B-CA-1673-AB

Comments: 2.21 acres, mineral rights, utility easements

Drill Site #6

null

Ford City CA 93268

Landholding Agency: GSA

Property Number: 54201040006

Status: Surplus

GSA Number: 9-B-CA-1673-AC

Comments: 2.13 acres, mineral rights, utility easements

Drill Site #9

null

Ford City CA 93268

Landholding Agency: GSA

Property Number: 54201040007

Status: Surplus

GSA Number: 9-B-CA-1673-AH

Comments: 2.07 acres, mineral rights, utility easements

Drill Site #20

null

Ford City CA 93268

Landholding Agency: GSA

Property Number: 54201040008

Status: Surplus

GSA Number: 9-B-CA-1673-AD

Comments: 2.07 acres, mineral rights, utility easements

Seal Beach RR Right of Way

West 19th Street

Seal Beach CA 90740

Landholding Agency: GSA

Property Number: 54201140015

Status: Surplus

GSA Number: 9-N-CA-1508-AF

Comments: 8,036.82 sq. ft.; current use: vacant lot

Seal Beach RR Right of Way

East 17th Street

Seal Beach CA 90740

Landholding Agency: GSA

Property Number: 54201140016

Status: Surplus

GSA Number: 9-N-CA-1508-AB

Comments: 9,713.88 sq. ft.; current use: private home

Seal Beach RR Right of Way

East of 16th Street

Seal Beach CA 90740

Landholding Agency: GSA

Property Number: 54201140017

Status: Surplus

GSA Number: 9-N-CA-1508-AG

Comments: 6,834.56 sq. ft.; current use: vacant

Seal Beach RR Right of Way

West of Seal Beach Blvd.

Seal Beach CA 90740

Landholding Agency: GSA

Property Number: 54201140018

Status: Surplus

GSA Number: 9-N-CA-1508-AA

Comments: 10,493.60 sq. ft.; current use: vacant lot

Seal Beach RR Right of Way

Seal Beach

Seal Beach CA 90740

Landholding Agency: GSA

Property Number: 54201210006

Status: Surplus

GSA Number: 9-N-CA-1508-AH

Comments: 4,721.90 sf.; current use: vacant lot between residential bldg.

Seal Beach RR Right of Way

Seal Beach

Seal Beach CA 90740

Landholding Agency: GSA

Property Number: 54201210007

Status: Surplus

GSA Number: 9-N-CA-1508-AJ

Comments: 6,028.70 sf.;current use: vacant lot between residential bldgs.

Hydro Electric Power Plant

1402 San Rogue Rd.

Santa Barbara CA 93105

Landholding Agency: GSA

Property Number: 54201240009

Status: Excess

GSA Number: 9-I-CA-1693

Comments: .0997 acres; behind secured gate for Lauro Dame & Reservoir; will impact conveyance; contact GSA for more details

Georgia

Former GNK Outer Marker

Hunt Rd.

LaGrange GA 31909

Landholding Agency: GSA

Property Number: 54201310008

Status: Excess

GSA Number: 4-U-GU-88AA

Comments: 0.918 acres

Kansas

1.64 Acres

Wichita Automated Flight Service

Anthony KS 67003

Landholding Agency: GSA

Property Number: 54201230002

Status: Excess

GSA Number: 7-U-KS-0526

Comments: Agricultural surroundings; remedial action has been taken for asbestos removal

Massachusetts

FAA Site

Massasoit Bridge Rd.

Nantucket MA 02554

Landholding Agency: GSA

Property Number: 54200830026

Status: Surplus

GSA Number: MA-0895

Comments: approx. 92 acres, entire parcel within MA Division of Fisheries & Wildlife Natural Heritage & Endangered Species Program

Nevada

RBG Water Project Site

Bureau of Reclamation

Henderson NV 89011

Landholding Agency: GSA

Property Number: 54201140004

Status: Surplus

GSA Number: 9-I-AZ-0562

Comments: water easement (will not impact conveyance); 22+/-acres; current use: water sludge disposal site; lead from shotgun shells on <1 acre.

Oregon

BOR Land

Hyatt Lake Safe Property

Hyatt Reservoir Area

Ashland OR

Landholding Agency: GSA

Property Number: 61201240011

Status: Surplus

GSA Number: 9-I-OR-0799

Comments: 3.5 acres +/-;timerland;practical access along eastern side; remote mountain property; winter seasons access can be very difficult

Pennsylvania

approx. 16.88

271 Sterrettania Rd.

Erie PA 16506

Landholding Agency: GSA

Property Number: 54200820011

Status: Surplus

GSA Number: 4-D-PA-0810

Comments: vacant land

South Dakota

Gettysburg Radio Tower Site

Potter County

Gettysburg SD 57442

Landholding Agency: GSA

Property Number: 54201310007

Status: Surplus

GSA Number: 7-D-SD-0537

Directions: one antenna tower & 144 sf. bldg. located on property

Comments: 2.21 acres; 144 sf. bldg. is used for storage

Tennessee

Fort Campbell Army Garrison

U.S. Hwy 79

Woodlawn TN 37191

Landholding Agency: GSA

Property Number: 54201240010

Status: Excess

GSA Number: 4-D-TN-586-2

Comments: 8 parcels;3.41 to 13.90 acres;agricultural;adjacent to Ft. Campbell-U.S. Army Garrison; parcel 7 identified as wetlands; contact GSA for more details on specific property

Washington

1.8 Ac. of the Richland FB N.

Parking Lot

825 Jadwin Ave.

Richland WA 99723

Landholding Agency: GSA

Property Number: 54201310002

Status: Excess

GSA Number: 9-G-WA-1263

Comments: 1.8; parking lot

California

Subase, Naval Base Point Loma

200 Catalina Blvd.

San Diego CA 92106

Landholding Agency: Navy

Property Number: 77201330014

Status: Excess

Comments: CORRECTION FROM 08/23/2013 FR: Facility w/in controlled perimeter of a DoD installation; public access denied & no alter method to gain access w/out compromising Nat'l security.

Reasons: Secured Area

Kentucky

30 Buildings

Fort Campbell

Fort Campbell KY 42223

Landholding Agency: Army

Property Number: 21201330059

Status: Unutilized

Directions: 84, 123, 125, 127, 602, 603, 605, 606, 710, 723, 734, 832, 840, 842, 844, 847, 907, 908, 909, 2110, 2206, 2251, 2253, 2255, 2257, 2259, 2261, 2267, 2269, 2312

Comments: Public access denied & no alternative to gain access w/out compromising Nat'l security.

Reasons: Secured Area

4 Building

Fort Campbell

Fort Campbell KY 42223

Landholding Agency: Army

Property Number: 21201330066

Status: Underutilized

Directions: 3215, 3213, 3212, 3211

Comments: Public access denied & no alternative method to gain access w/out compromising Nat'l.

Reasons: Secured Area

Tennessee

54 Buildings

Fort Campbell

Fort Campbell TN 42223

Landholding Agency: Army

Property Number: 21201330058

Status: Unutilized

Directions: 2314, 2316, 2318, 2320, 2321, 2322, 2324, 2326, 2515, 2530, 2950, 3101, 3214, 3708, 3709, 5513, 5611, 660, 6096, 6097, 6098, 6140, 6454, 6456, 6460, 6464, 6468, 6470, 6474, 6810, 6821, 6847, 6902, 6903, 6910, 6911, 6912, 6913, 6914, 6915, 6916, 6917, 6918, 6919, 6920, 7007, 7009, 7010, 7050, 7055, 7103, 7104, 7105, A7170

Comments: Public access denied & no alternative method to gain access w/out compromising Nat'l security.

Reasons: Secured Area

Texas

U.S.C.G. Harbor Facility

1201 East Navigation Blvd.

Corpus Christi TX 78402

Landholding Agency: Coast Guard

Property Number: 88201330002

Status: Excess

Comments: Public access denied & no alternative method to gain access w/out compromising Nat'l security

Reasons: Secured Area

[FR Doc. 2013-22113 Filed 9-12-13; 8:45 am]

BILLING CODE 4210-67-P